DEPARTMENT OF ENERGY

Federal Energy Regulatory Commission

[Project No. 3562-026]

KEI (Maine) Power Management (III) LLC; Notice of Scoping Period Requesting Comments on Environmental Issues for the Proposed Barker Mill Upper Hydroelectric Project

Take notice that the following hydroelectric application has been filed with the Commission and is available for public inspection.

a. Type of Application: Subsequent Minor License.

b. Project No.: 3562-026.

c. Date filed: July 29, 2021.

d. Applicant: KEI (Maine) Power Management (III) LLC (KEI Power).

e. Name of Project: Barker Mill Upper Hydroelectric Project (Upper Barker Project).

f. Location: On the Little Androscoggin River, in the City of Auburn, Androscoggin County, Maine.

g. Filed Pursuant to: Federal Power Act 16 U.S.C. 791(a)-825(r).

h. Applicant Contact: Lewis C. Loon, General Manager, KEI (USA) Power Management Inc., 423 Brunswick Avenue, Gardiner, ME 04345; phone at (207) 203-3025; email at LewisC.Loon@krueger.com.

i. FERC Contact: Jody Callihan at (202) 502-8278, or jody.callihan@ferc.gov.

j. The staff of the Federal Energy Regulatory Commission (FERC or Commission) will prepare an environmental document that will discuss the environmental effects of relicensing the Upper Barker Project. The Commission will use this environmental document in its decision-making process to determine whether to issue a subsequent license for the project.

k. This notice announces the opening of the scoping process the Commission will use to gather input from the public and interested agencies regarding the project. This notice is intended to advise all participants as to the potential scope of the National Environmental Policy Act (NEPA) document and to seek additional information pertinent to this analysis. Commission staff does not intend to issue a separate scoping document.

As part of the NEPA review process, the Commission takes into account concerns the public may have about proposals and the environmental effects that could result from its action whenever it considers the issuance of a hydropower license. This gathering of public input is referred to as “scoping.” The main goal of the scoping process is to focus the analysis in the environmental document on the important environmental issues.

l. Scoping Comments: By this notice, the Commission requests written public comments on the scope of issues to address in the environmental document. To ensure that your comments are timely and properly recorded, please submit your comments so that the Commission receives them in Washington, DC on or before 5:00 p.m. Eastern Time on December 1, 2025.

Comments should focus on the potential environmental effects and reasonable alternatives. Your input will help the Commission staff determine what issues they need to evaluate in the environmental document. Commission staff will consider all written comments during the preparation of the environmental document.

The Commission strongly encourages electronic filing. Please file scoping comments using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Barker Mill Upper Hydroelectric Project (P-3562-026).

The Commission's Rules of Practice require all intervenors filing documents with the Commission to serve a copy of that document on each person on the official service list for the project. Further, if an intervenor files comments or documents with the Commission relating to the merits of an issue that may affect the responsibilities of a particular resource agency, they must also serve a copy of the document on that resource agency.

m. The application has been accepted for filing but is not ready for environmental analysis at this time.

n. The existing Upper Barker Project consists of: (1) a 41-acre impoundment with a maximum storage capacity of 255 acre-feet at a normal maximum water surface elevation of 192 feet; ¹ (2) a dam consisting of (starting from the west bank): (a) a 43-foot-long concrete abutment; (b) a 40-foot-long gated spillway structure consisting of two, 18-foot-high, 15-foot-wide steel Tainter gates; (c) an 86-foot-long, 24-foot-high stone masonry with concrete overlay overflow spillway with 3-foot-high wooden flashboards and a crest elevation of 192 feet at the top of the flashboards (189 feet when the flashboards are lowered); (d) a 31-foot-long concrete intake structure; and, (e) a 27-foot-long underground abutment; (3) a powerhouse containing a single 950-kilowatt turbine-generator unit; (4) a tailrace; (5) a 50-foot-long, 12.47-kilovolt transmission line; and (6) appurtenant facilities.

¹ All elevations are referenced to the North American Vertical Datum of 1988.

KEI Power filed a Settlement Agreement for the Barker's Mill Project (FERC No. 2808),² Upper Barker Project (FERC No. 3562), and Marcal Project (FERC No. 11482) (Settlement) executed by and between the licensee and the U.S. Department of Justice, the U.S. Fish and Wildlife Service, the National Marine Fisheries Service, the Maine Department of Marine Resources (Maine DMR), and the Maine Department of Inland Fisheries and Wildlife (Settlement Parties). The purpose of the Settlement is to resolve the parties' disagreements over the issues related to fish and aquatic resource management, including upstream and downstream passage measures for American eel, river herring, American shad, sea lamprey, and Atlantic salmon; minimum flow releases; and aquatic invasive species. Specifically, for the relicensing of the Upper Barker Project, the Settlement provides for: (1) coordinating the time frame for providing upstream and downstream fish passage at the Upper Barker Project; (2) aligning the minimum and seasonal flows at the Upper Barker and the Lower Barker Projects; (3) aligning the Upper Barker and Lower Barker Projects' license terms by extending the 40-year license term of the Lower Barker Project to 50 years and requesting a license term of 47 years for the Upper Barker Project; (4) establishing an off-license agreement to fund an Androscoggin Basin Stewardship Fund administered by Maine DMR to benefit spawning and rearing habitat in the basin; and (5) assuring, through an off-license agreement, the resources agencies' support for KEI Power's request for Low Impact Hydropower Institute certification for the Upper Barker Project.

² The Barker's Mill Project is also known as and referred to herein as the Lower Barker Project.

The Upper Barker Project is currently operated in run-of-river mode and generates 4,681 megawatt-hours annually.

A copy of the application is available for review on the Commission's website at http://www.ferc.gov, using the “eLibrary” link. Enter the project's docket number, excluding the last three digits in the docket number field, to access the document. For assistance, contact FERC at FERCOnlineSupport@ferc.gov or call toll free, (886) 208-3676 or TTY (202) 502-8659.

o. NEPA Process and the Environmental Document: Any environmental document issued by the Commission will discuss effects that could occur as a result of the project's relicensing under the relevant general resource areas, such as:

• geology and soils;

• aquatic resources;

• terrestrial resources;

• threatened and endangered species;

• recreation, land use, and aesthetic resources;

• cultural resources; and

• developmental resources.

Commission staff will also evaluate reasonable alternatives to the proposed project or portions of the project and make recommendations on how to lessen or avoid effects on the various resource areas. Your comments will help Commission staff identify and focus on the issues that might have an effect on the human environment and potentially eliminate others from further discussion in the environmental document.

Following this scoping period, Commission staff will determine whether to prepare an Environmental Assessment (EA) or an Environmental Impact Statement (EIS). The EA or EIS will present Commission staff's independent analysis of the issues. If Commission staff prepares an EA, a Notice of Intent to Prepare an Environmental Assessment will be issued. The EA may be issued for an allotted public comment period. The Commission would consider timely comments on the EA before making its decision regarding the proposed project. If Commission staff prepares an EIS, a Notice of Intent to Prepare an Environmental Impact Statement will be issued. Staff will then prepare a draft EIS, which will be issued for public comment. Commission staff will consider all timely comments received during the comment period on the draft EIS and revise the document, as necessary, before issuing a final EIS. Any EA or draft and final EIS will be available in electronic format in the public record through eLibrary. If eSubscribed, you will receive instant email notification when the environmental document is issued (see paragraph (q) of this notice for instructions on using eSubscription).

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. This notice is being distributed to the Commission's official mailing list for the project and any additional entities on the applicant's distribution list. You can access the Commission's official mailing list for this project at https://ferconline.ferc.gov/ServiceListResults.aspx. If you want to receive future mailings for the project and are not included on the Commission's official mailing list, or if you wish to be removed from the Commission's official mailing list, please send your request by email to FERCOnlineSupport@ferc.gov. In lieu of an email request, you may submit a paper request. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All written or emailed requests must specify your wish to be added to or removed from the mailing list and must clearly identify the following on the first page: Barker Mill Upper Hydroelectric Project No. 3562-026.

Additionally, the Commission offers a free service called eSubscription, which makes it easy to stay informed of all issuances and submittals regarding the dockets/projects to which you subscribe. These instant email notifications are the fastest way to receive notification and provide a link to the document files, which can reduce the amount of time you spend researching proceedings. Go to https://www.ferc.gov/ferc-online/overview to register for eSubscription.

In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3562). For assistance, contact FERC at FERCOnlineSupport@ferc.gov, (866) 208-3676 (toll free), or (202) 502-8659 (TTY).

Dated: October 30, 2025.
Debbie-Anne A. Reese,
Secretary.

[FR Doc. 2025-20918 Filed 11-24-25; 8:45 am]

BILLING CODE 6717-01-P